DEPARTMENT OF COMMERCE

National Oceanic and Atmospheric Administration

[I.D. 040405A]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Allocation Committee (Committee) will hold a working meeting, which is open to the public.

DATES: The Committee meeting will be held Monday, May 2, 2005, from 1 p.m. until business for the day is completed. The Committee meeting will reconvene Tuesday, May 3, 2005, from 8:30 a.m. until business for the day is completed.

ADDRESSES: The Committee meeting will be held in Portland, Oregon at a location to be determined. The Pacific Fishery Management Council will distribute notice of the meeting location to interested parties on their groundfish mailing list and will post this information as well on their website at www.pcouncil.org.

Council address: Pacific Fishery Management Council, 7700 NE Ambassador Place, Suite 200, Portland, Oregon 97220-1384.

FOR FURTHER INFORMATION CONTACT: Mr. John DeVore, Groundfish Management Coordinator; telephone: 503-820-2280.

SUPPLEMENTARY INFORMATION: The purpose of the Committee meeting is to consider allocational issues associated with development of an individual quota (or dedicated access) program initiative for the Pacific Coast groundfish trawl fishery, as well as initiatives pursuant to implementing bycatch reduction measures frameworked in Amendment 18 to the Pacific Coast Groundfish Fishery Management Plan. The Committee will discuss the types of provisions that may be necessary to prevent further overfishing, to reduce bycatch of overfished species in the various groundfish fisheries, and to reduce bycatch in nongroundfish fisheries. No management actions will be decided by the Committee. The Committee's role will be development of recommendations for consideration by the Council at its June meeting in Foster City, California.

Although nonemergency issues not contained in the meeting agenda may come before the Committee for discussion, those issues may not be the subject of formal Committee action during this meeting. Committee action will be restricted to those issues specifically listed in this notice and any issues arising after publication of this notice that require emergency action under Section 305(c) of the Magnuson-Stevens Fishery Conservation and Management Act, provided the public has been notified of the Committee's intent to take final action to address the emergency.

Special Accommodations

This meeting is physically accessible to people with disabilities. Requests for sign language interpretation or other auxiliary aids should be directed to Ms. Carolyn Porter at 503-820-2280 at least 5 days prior to the meeting date.

Dated: April 4, 2005.
Emily Menashes,
Acting Director, Office of Sustainable Fisheries, National Marine Fisheries Service.

[FR Doc. E5-1593 Filed 4-6-05; 8:45 am]

BILLING CODE 3510-22-S